DEPARTMENT OF ENERGY

Annual Report of Closed Advisory Committee Meetings

AGENCY: Department of Energy.

ACTION: Notice.

SUMMARY: The Department of Energy is announcing that, as required by the Federal Advisory Committee Act (FACA), it has issued its 2024 Annual Report of Closed Advisory Committee meetings.

ADDRESSES: The report is available by contacting DOE's Committee Management Officer, David Borak.

FOR FURTHER INFORMATION CONTACT: David Borak, Committee Management Officer, at the U.S. Department of Energy, 1000 Independence Ave. SW, Washington, DC; or via phone at (202) 586-5216; or email at seab@hq.doe.gov.

SUPPLEMENTARY INFORMATION: In accordance with section 10(d) of the Federal Advisory Committee Act (FACA), 5 U.S.C. 1009(d)), and section 102-3.175(c) of the General Services Administration's (GSA) Final Rule on Federal Advisory Committee Management, the Department of Energy has issued its 2024 Annual Report of Closed Advisory Committee meetings. The report covers three closed meetings of the ACNS held in 2024, all in Washington, DC. Although there were two meetings in 2024 of the President's Council of Advisors on Science and Technology (PCAST) with Federal Register Notices which indicated partially closed meetings, there were no closed portions for either meeting, due to the President's schedule.

The Advisory Committee for Nuclear Security (ACNS) held closed meetings on the following dates in 2024: March 26, August 13, and December 3. At the March 26, 2024, meeting, ACNS discussed the Science, Technology, and Engineering (ST&E) integrated strategy at the National Nuclear Security Administration (NNSA), as well as the Enterprise Blueprint, a 25-year plan to align the delivery of specialized infrastructure with demands across NNSA missions. At the August 13, 2024, meeting, ACNS discussed Defense Nuclear Nonproliferation Programs, Integrated Plutonium Program, and Pipeline & Workforce. At the December 3, 2024, meeting, ACNS closed out two subcommittee studies on Modern Materials and Manufacturing (M3) and the ST&E Revitalization.

This report was also submitted to the Library of Congress, FACA Desk for public inspection and use.

Signing Authority: This document of the Department of Energy was signed on March 31, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 1, 2025.
Treena V. Garrett,
Federal Register Liaison Officer, U.S. Department of Energy.

[FR Doc. 2025-05801 Filed 4-3-25; 8:45 am]

BILLING CODE 6450-01-P